ENVIRONMENTAL PROTECTION AGENCY

[EPA-HQ-OW-2007-1156; FRL-8509-1]

Draft Cruise Ship Discharge Assessment Report

AGENCY: Environmental Protection Agency (EPA).

ACTION: Notice of availability and request for public comments.

SUMMARY: EPA announces the availability of the Draft Cruise Ship Discharge Assessment Report (Draft Report), which assesses five cruise ship waste streams, specifically, sewage, graywater, bilge water, solid waste, and hazardous waste. EPA prepared the Draft Cruise Ship Discharge Assessment Report as part of its response to a petition submitted by the Bluewater Network on behalf of a number of environmental advocacy organizations. EPA invites public comment on its assessment, as well as input on options, alternatives, and recommendations on whether and how to better control and regulate these waste streams. EPA intends to use this public input to help identify a range of alternatives for these waste streams when it completes the Cruise Ship Discharge Assessment Report.

DATES: Comments must be received on or before February 4, 2008.

ADDRESSES: Submit your comments, identified by Docket ID No. EPA-HQ-OW-2007-1156, by one of the following methods:

• www.regulations.gov: Follow the on-line instructions for submitting comments.

• E-mail: OW-Docket@epa.gov.

• Mail: Water Docket, Environmental Protection Agency, Mailcode: 2822T, 1200 Pennsylvania Ave., NW., Washington, DC 20460.

• Hand Delivery: EPA Docket Center, (EPA/DC) EPA West, Room 3334, 1301 Constitution Ave., NW., Washington, DC 20004, Attention Docket ID No. EPA-HQ-OW-2007-1156. Such deliveries are only accepted during the Docket's normal hours of operation, and special arrangements should be made for deliveries of boxed information.

Instructions: Direct your comments to Docket ID No. EPA-HQ-OW-2007-1156. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room 3334, 1301 Constitution Ave., NW., Washington, DC. The Public Reading Room is open from 8:30 a.m. to 4:40 p.m., Monday through Friday, excluding legal holidays. The telephone number for the Public Reading Room is (202) 566-1744, and the telephone number for the Water Docket is (202) 566-2426.

FOR FURTHER INFORMATION CONTACT: Elizabeth Kim, Oceans and Coastal Protection Division, Office of Wetlands, Oceans, and Watersheds, (4504T), U.S. EPA, 1200 Pennsylvania Ave., NW., Washington, DC 20460; telephone number: (202) 566-1270; fax number: (202) 566-1546; e-mail address: kim.elizabeth@epa.gov.

SUPPLEMENTARY INFORMATION:

I. General Information

A. Interested Entities

Entities potentially interested in today's notice are those who are interested in or addressing cruise ship waste streams. Categories and entities interested in today's notice include:

Category | Examples of interested entities
Federal Government | U.S. Coast Guard, National Oceanic and Atmospheric Administration, U.S. Department of Justice.
State/Local/Tribal Government | Governments interested in or addressing cruise ship waste streams.
Industry and General Public | Cruise industry, environmental interest groups.

This table is not intended to be exhaustive, but rather provides a guide for readers regarding entities likely to be interested in this notice. This table lists the types of entities that EPA is now aware could potentially be interested in this notice. Other types of entities not listed in the table could also be interested.

B. How Can I Get Copies of This Document and Other Related Information?

1. Document Electronic Access. To obtain a copy of the Draft Report entitled Draft Cruise Ship Discharge Assessment Report, please access our Web site at: http://www.epa.gov/owow/oceans/cruise_ships/disch_assess.html.

2. Federal Register Docket. EPA has established a public docket for this notice under Docket ID No. EPA-HQ-OW-2007-1156. The public docket consists of the documents specifically referenced in this notice and other information related to this notice. The public docket does not include information claimed as Confidential Business Information (CBI) or other information whose disclosure is restricted by statute. Publicly available docket materials are available either electronically through www.regulations.gov or in hard copy at the Water Docket in the EPA Docket Center.

3. Federal Register Electronic Access. You may access this Federal Register document electronically through the EPA Internet under the Federal Register listings at: http://www.epa.gov/fedrgstr/.

C. How and to Whom Do I Submit My Comments?

Direct your comments to Docket ID No. EPA-HQ-OW-2007-1156. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Submit your comments, identified by Docket ID No. EPA-HQ-OW-2007-1156, by one of the following methods:

• www.regulations.gov: Follow the on-line instructions for submitting comments.

• E-mail: OW-Docket@epa.gov.

• Mail: Water Docket, Environmental Protection Agency, Mailcode: 2822T, 1200 Pennsylvania Ave., NW. Washington, DC 20460.

• Hand Delivery: EPA Docket Center, (EPA/DC) EPA West, Room 3334, 1301 Constitution Ave., NW., Washington, DC 20004, Attention Docket ID No. EPA-HQ-OW-2007-1156. Such deliveries are only accepted during the Docket's normal hours of operation, and special arrangements should be made for deliveries of boxed information.

D. What Should I Consider as I Prepare My Comments for EPA?

You may find these suggestions helpful for preparing your comments:

1. Explain your comments as clearly as possible.

2. Describe any assumptions that you used.

3. Provide any technical information and/or data you used that support your comments.

4. Provide specific examples to illustrate your concerns.

5. Offer alternatives.

6. Make sure to submit your comments by the time period deadline identified.

7. To ensure proper receipt by EPA, identify the appropriate docket identification number in the subject line on the first page of your response. It would also be helpful if you provided the name, date, and Federal Register citation related to your comments.

EPA specifically requests comment and public input on the following:

1. Sewage Discharges. Should sewage discharges from cruise ships be better controlled and regulated? If so, why? If such discharges should be better controlled and/or regulated, please recommend one or more such options (and identify your preferred recommendation), as well as any option or options relating to sampling, monitoring, and reporting of sewage discharges.

2. Graywater Discharges. Should graywater discharges from cruise ships be better controlled and regulated? If so, why? If such discharges should be better controlled and/or regulated, please recommend one or more such options and identify your preferred recommendation. Should EPA more narrowly define graywater? If so, why? If the term should be more narrowly defined, please recommend an option or options, and identify your preferred recommendation.

3. Hazardous Wastes. Should hazardous wastes generated on cruise ships be better managed and regulated? If so, why? If such discharges should be better managed and/or regulated, please recommend one or more such options, and identify your preferred recommendation.

4. Solid Wastes. Should solid wastes generated on cruise ships be better managed and regulated? If so, why? If such discharges should be better controlled and/or regulated, please recommend one or more such options, and identify your preferred recommendation. With regard to the incineration of some solid wastes generated on cruise ships, EPA invites specific comment regarding the sampling and/or testing of incinerator ash.

5. Oily Bilge Water. Should oily bilge water generated on and discharged from cruise ships be better controlled and regulated? If so, why? If such discharges should be better controlled and/or regulated, please recommend one or more such options, and identify your preferred recommendation.

II. Background

Cruise ships operate in every ocean worldwide, often in pristine coastal waters and sensitive marine ecosystems. Cruise ship operators provide amenities to their passengers that are similar to those of luxury resort hotels, including pools, hair salons, restaurants, and dry cleaners. As a result, cruise ships have the potential to generate wastes similar in volume and character to those generated by hotels.

In March 2000, an environmental advocacy group called the Bluewater Network, representing 53 environmental organizations, submitted a petition to the U.S. Environmental Protection Agency (EPA) requesting that EPA identify and take regulatory action on measures to address pollution by cruise ships. Specifically, the petition requested an in-depth assessment of the volumes and characteristics of cruise ship waste streams; analysis of their potential impact on water quality, the marine environment, and human health; examination of existing federal regulations governing cruise ship waste streams; and formulation of recommendations on how to better control and regulate these waste streams. The petition included specific requests related to sewage, graywater, oily bilge water, solid wastes, and hazardous wastes, as well as monitoring, recordkeeping, and reporting. In addition, the petition requested that EPA prepare a report of its investigations and findings.

This Draft Cruise Ship Discharge Assessment Report responds in part to the petition from Bluewater Network. The Draft Report assesses five primary cruise ship waste streams, specifically, sewage, graywater, bilge water, solid waste, and hazardous waste. For each waste stream, the Draft Report discusses (1) the nature and volume of the waste stream generated; (2) existing federal regulations applicable to the waste stream; (3) environmental management, including treatment, of the waste stream; (4) potential adverse environmental impacts of the waste stream; and (5) actions by the federal government to address the waste stream.

III. This Action

EPA invites and requests comments on all aspects of the Draft Report. In addition, EPA invites and requests public input on options, alternatives, and recommendations on whether and how to better control and regulate these waste streams (see section I.C. for information regarding how to submit comments). When EPA completes the Cruise Ship Discharge Assessment Report after consideration of public comment, EPA plans to identify a range of options and alternatives to address these waste streams. EPA anticipates issuance of the completed Report by the end of 2008 and would publish a notice of availability of the Report at that time.

Dated: December 14, 2007.
Benjamin H. Grumbles,
Assistant Administrator for Water.

[FR Doc. E7-24737 Filed 12-19-07; 8:45 am]

BILLING CODE 6560-50-P